DEPARTMENT OF HEALTH AND HUMAN SERVICES

National Institutes of Health

National Cancer Institute; Amended Notice of Meeting

Notice is hereby given of a change in the meeting of the National Cancer Institute Special Emphasis Panel, December 6, 2001, 2 p.m. to December 6, 2001, 4 p.m., National Cancer Institute Division of Extramural Activities, Grants Review Branch, 6116 Executive Boulevard, 8th Floor, Rockville, MD, 20852 which was published in the Federal Register on November 13, 2001, 66 FR 56833-56834.

The meeting start time has changed from 2 pm to 1 pm. The meeting is closed to the public.

Dated: November 21, 2001.
LaVerne Y. Stringfield,
Director, Office of Federal Advisory Committee Policy.

[FR Doc. 01-29690 Filed 11-29-01; 8:45 am]

BILLING CODE 4140-01-M